EXPORT-IMPORT BANK

[Public Notice 2012-0444]

Application for Final Commitment for a Long-Term Loan or Financial Guarantee in Excess of $100 Million

AGENCY: Export-Import Bank of the United States.

ACTION: Notice of 25 day comment period regarding an application for final commitment for a long-term loan or financial guarantee in excess of $100 million.

SUMMARY: This Notice is to inform the public, in accordance with Section 3(c)(10) of the Charter of the Export-Import Bank of the United States (“Ex-Im Bank”), that Ex-Im Bank has received an application for final commitment for a long-term loan or financial guarantee in excess of $100 million (as calculated in accordance with Section 3(c)(10) of the Charter).

Comments received within the comment period specified below will be presented to the Ex-Im Bank Board of Directors prior to final action on this Transaction.

DATES: Comments must be received on or before September 14, 2012 to be assured of consideration before final consideration of the transaction by the Board of Directors of Ex-Im Bank.

ADDRESSES: Comments may be submitted through www.regulations.gov.

SUPPLEMENTARY INFORMATION: Reference: AP085466XX.

Purpose and Use

Brief description of the purpose of the transaction:

To support the export of U.S. services and equipment to Saudi Arabia.

Brief non-proprietary description of the anticipated use of the items being exported:

The U.S. exports will be used for the design and construction of a petrochemical complex.

To the extent that Ex-Im Bank is reasonably aware, the item(s) being exported may be used to produce exports or provide services in competition with the exportation of goods or provision of services by a United States industry.

Parties

Principal Suppliers: Kellogg Brown & Root Incorporated; Jacobs Engineering Group Incorporated; Foster Wheeler AG; Fluor Corporation.

Obligor: The obligor is a special purpose vehicle anticipated to be named “Sadara Chemical Company.”

Guarantor(s): The Dow Chemical Company, Dow Europe Holding B.V., and Saudi Arabian Oil Company.

Description of Items Being Exported

The items being exported are design work, construction services, technology licenses, chemicals, and steam generation equipment.

Information on Decision: Information on the final decision for this transaction will be available in the “Summary Minutes of Meetings of Board of Directors” on http://www.exim.gov/articles.cfm/board%20minute.

Confidential Information: Please note that this notice does not include confidential or proprietary business information; information which, if disclosed, would violate the Trade Secrets Act; or information which would jeopardize jobs in the United States by supplying information that competitors could use to compete with companies in the United States.

Sharon A. Whitt,
Agency Clearance Officer.

[FR Doc. 2012-20368 Filed 8-17-12; 8:45 am]

BILLING CODE 6690-01-P